SECURITIES AND EXCHANGE COMMISSION

[File No. 500-1]

Coyote Resources, Inc., Harbor Island Development Corp., Medical Makeover Corp. of America, and Shades Holdings, Inc.; Order of Suspension of Trading

April 29, 2016.

It appears to the Securities and Exchange Commission that there is a lack of current and accurate information concerning the securities of Coyote Resources, Inc. (CIK No. 1392121), a revoked Nevada corporation with its principal place of business listed as Davie, Florida with stock quoted on OTC Link (previously, “Pink Sheets”) operated by OTC Markets Group, Inc. (“OTC Link”) under the ticker symbol COYR, because it has not filed any periodic reports since the period ended June 30, 2013. On August 19, 2015, a delinquency letter was sent by the Division of Corporation Finance to Coyote Resources, Inc. requesting compliance with its periodic filing obligations, and Coyote Resources, Inc. received the delinquency letter on August 29, 2015, but failed to cure its delinquencies.

It appears to the Securities and Exchange Commission that there is a lack of current and accurate information concerning the securities of Harbor Island Development Corp. (CIK No. 1490824), a revoked Nevada corporation with its principal place of business listed as Opa Locka, Florida with stock quoted on OTC Link under the ticker symbol HIDC, because it has not filed any periodic reports since the period ended June 30, 2013. On July 31, 2015, a delinquency letter was sent by the Division of Corporation Finance to Harbor Island Development Corp. requesting compliance with its periodic filing obligations, but it did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of Medical Makeover Corp. of America (CIK No. 1083944), a void Delaware corporation with its principal place of business listed as West Palm Beach, Florida with stock quoted on OTC Link under the ticker symbol MMAM, because it has not filed any periodic reports since the period ended September 30, 2012. On August 19, 2015, a delinquency letter was sent by the Division of Corporation Finance to Medical Makeover Corp. of America requesting compliance with its periodic filing obligations, and Medical Makeover Corp. of America received the delinquency letter on August 24, 2015, but failed to cure its delinquencies.

It appears to the Securities and Exchange Commission that there is a lack of current and accurate information concerning the securities of Shades Holdings, Inc. (CIK No. 1488366), a Florida corporation with its principal place of business listed as Aventura, Florida with stock quoted on OTC Link under the ticker symbol SHDH, because it has not filed any periodic reports since the period ended June 30, 2013. On August 19, 2015, a delinquency letter was sent by the Division of Corporation Finance to Shades Holdings, Inc. requesting compliance with its periodic filing obligations, but it did not receive the delinquency letter due to its failure to maintain a valid address on file with the Commission as required by Commission rules (Rule 301 of Regulation S-T, 17 CFR 232.301 and Section 5.4 of EDGAR Filer Manual).

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 29, 2016, through 11:59 p.m. EDT on May 12, 2016.

By the Commission.
Brent J. Fields,
Secretary.

[FR Doc. 2016-10410 Filed 4-29-16; 11:15 am]

BILLING CODE 8011-01-P